DEPARTMENT OF COMMERCE

Patent and Trademark Office

[Docket No. PTO-P-2016-0041]

Notice of Roundtables and Request for Comments Related to Patent Subject Matter Eligibility; Addition of USPTO HQ Location for Roundtable 2

AGENCY: United States Patent and Trademark Office, Department of Commerce.

ACTION: Notice of public roundtables and request for comments related to patent subject matter eligibility.

SUMMARY: The United States Patent and Trademark Office publishes this notice to announce that interested persons may participate at the USPTO's Alexandria, VA office for its Roundtable to be held on December 5, 2016.

DATES: This notice is applicable to Roundtable 2 being held December 5, 2016, 8 a.m. to 5 p.m., PST Stanford, CA. Written comments are due by January 18, 2017.

FOR FURTHER INFORMATION CONTACT: Requests for additional information regarding registration and speaker presentations should be directed to the attention of Elizabeth Shaw, by telephone at 571-272-9300, or by email at Elizabeth.shaw2@uspto.gov.

SUPPLEMENTARY INFORMATION: On October, 17, 2016, the USPTO published in the Federal Register a notice of public roundtables and request for comments related to patent subject matter eligibility. (81 FR 71485). The USPTO publishes this notice to announce that in addition to those USPTO offices identified in the October 17, 2016 notice, the public is also invited to participate at Roundtable 2 by appearing, in person, at the USPTO Headquarters, 600 Dulany Street, Alexandria, Virginia 22314. Please see the October 17, 2016 notice for registration instructions and further information on the Roundtables.

Dated: November 7 2016.
Michelle K. Lee,
Under Secretary of Commerce for Intellectual Property and Director of the United States Patent and Trademark Office.

[FR Doc. 2016-27279 Filed 11-10-16; 8:45 am]

BILLING CODE 3510-16-P